DEPARTMENT OF HOMELAND SECURITY

Federal Emergency Management Agency

Docket ID: FEMA-2020-0036; OMB No. 1660-0105]

Agency Information Collection Activities: Submission for OMB Review; Comment Request; National Household Survey on Disaster Preparedness

AGENCY: Federal Emergency Management Agency, Department of Homeland Security.

ACTION: 30-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the charge to FEMA and the Department of Homeland Security (DHS) to meet FEMA strategic priorities, and FEMA's program management to improve the public's knowledge and actions for preparedness and resilience. Information from this collection will be used to track changes in knowledge, attitudes, and behaviors related to preparedness in the general public. The Individual and Community Preparedness Division analyzes and uses data collected in FEMA Form 008-0-15, National Disaster Preparedness Survey to identify progress and gaps in individual and community preparedness to better understand the motivators and barriers to preparedness in general and about specific hazards. The survey measures the public's knowledge, attitudes, and behaviors relative to preparing for a wide range of hazards.

DATES: Comments must be submitted on or before April 23, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov, or Joseph Faulk, Preparedness Data Lead, Individual and Community Preparedness Division, joseph.faulk@fema.dhs.gov, 202-212-7723.

SUPPLEMENTARY INFORMATION: This proposed information collection previously published in the Federal Register on Thursday, November 5, 2020, at 85 FR 70645 with a 60 day public comment period. No comments were received. The purpose of this notice is to notify the public that FEMA will submit the information collection abstracted below to the Office of Management and Budget for review and clearance.

Collection of Information

Title: National Household Survey on Disaster Preparedness.

Type of information collection: Revision of a currently approved information collection.

OMB Number: 1660-0105.

Form Titles and Numbers: FEMA Form 008-0-FY-21-103, FEMA Form 008-0-FY-21-104.

Abstract: In accordance with the Paperwork Reduction Act of 1995, this collection assists FEMA's Individual and Community Preparedness Division to identify progress and gaps in citizen and community preparedness.

Affected Public: Individuals or Households.

Estimated Number of Respondents: 7,000.

Estimated Number of Responses: 7,000.

Estimated Total Annual Burden Hours: 1,250.

Estimated Total Annual Respondent Cost: $46,938.

Estimated Respondents' Operation and Maintenance Costs: There are no respondents' Operation and Maintenance costs associated with this information collection.

Estimated Respondents' Capital and Start-Up Costs: There are no recordkeeping, capital and start-up costs associated with this information collection.

Estimated Total Annual Cost to the Federal Government: $281,334.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-06070 Filed 3-23-21; 8:45 am]

BILLING CODE 9111-27-P